DEPARTMENT OF THE TREASURY

Agency Information Collection Activities; Submission for OMB Review; Comment Request; Generic Clearance for the Collection of Qualitative Feedback on Agency Service Delivery

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before March 3, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

U.S. Mint

Title: Generic Clearance for the Collection of Qualitative Feedback on Agency Service Delivery.

OMB Control Number: 1525-0012.

Type of Request: Extension without change of a currently approved collection.

Description: Executive Order 12862 directs Federal agencies to provide service to the public that matches or exceeds the best service available in the private sector. In order to ensure that our programs are effective and meet our customers' needs, The U.S. Mint collects qualitative feedback on our service delivery. By qualitative feedback we mean information that provides useful insights on perceptions and opinions, but which are not statistical surveys that yield quantitative results that can be generalized to the population of study. The Mint will collect feedback through customer satisfaction and opinion surveys or focus group interviews to be conducted over the next three years. The information collected from these surveys will be used to improve United States Mint products and services.

Form: None.

Affected Public: Individuals and households, Businesses and other for-profits.

Estimated Number of Respondents: 250,000.

Frequency of Response: On occasion.

Estimated Total Number of Annual Responses: 250,000.

Estimated Time per Response: Varies depending on type of collection. Can range from 3 min to 2 hours.

Estimated Total Annual Burden Hours: 75,000.

Authority: 44 U.S.C. 3501 et seq.

Spencer W. Clark,
Treasury PRA Clearance Officer.

[FR Doc. 2025-02056 Filed 1-30-25; 8:45 am]

BILLING CODE 4810-37-P